DEPARTMENT OF TRANSPORTATION

Federal Aviation Administration

14 CFR Part 71

[Docket No. FAA-2023-1299; Airspace Docket No. 22-AEA-18]

RIN 2120-AA66

Amendment of Very High Frequency (VHF) Omnidirectional Range (VOR) Federal Airway V-469 and Revocation of VOR Federal Airways V-164, V-423, and V-576; Eastern United States

AGENCY: Federal Aviation Administration (FAA) DOT.

ACTION: Proposed rule; withdrawal.

SUMMARY: The FAA is withdrawing the Notice of Proposed Rulemaking (NPRM) published in the Federal Register on June 15, 2023, proposing to amend Very High Frequency Omnidirectional Range (VOR) Federal Airway V-469; and to revoke VOR Federal Airways V-164, V-423, and V-576; due to the planned decommissioning of the Williamsport, PA (FQM), VOR/Distance Measuring Equipment (DME); Stonyfork, PA (SFK), VOR/DME; Danville, VA (DAN), VOR; Hancock, NY (HNK), VOR/DME; and Delancey, NY (DNY), VOR/DME.

DATES: Effective as of 0901 UTC, April 25, 2024, the proposed rule published June 15, 2023 (88 FR 39204), is withdrawn.

FOR FURTHER INFORMATION CONTACT: Brian Vidis, Rules and Regulations Group, Office of Policy, Federal Aviation Administration, 800 Independence Avenue SW, Washington, DC 20591; telephone: (202) 267-8783.

SUPPLEMENTARY INFORMATION:

Reason for Withdrawal

The FAA published a NPRM in the Federal Register for Docket No. FAA-2023-1299 (88 FR 39204; June 15, 2023). The NPRM proposed to amend VOR Federal Airway V-469; and to revoke VOR Federal Airways V-164, V-423, and V-576; due to the planned decommissioning of the Williamsport, PA (FQM), VOR/DME; the Stonyfork, PA (SFK), VOR/DME; the Danville, VA (DAN), VOR; the Hancock, NY (HNK), VOR/DME; and the Delancey, NY (DNY), VOR/DME which provides navigation guidance for portions of the affected airways. Interested parties were invited to participate in this rulemaking effort by submitting written comments on the proposal. No comments were received. Subsequent to the NPRM, the Williamsport VOR/DME decommissioning was delayed, and other airway docket actions rendered this proposal unnecessary.

Conclusion

The FAA determined that the NPRM published on June 15, 2023, is unnecessary. Therefore, the FAA withdraws that NPRM.

Issued in Washington, DC, on April 18, 2024.
Frank Lias,
Manager, Rules and Regulations Group.

[FR Doc. 2024-08671 Filed 4-24-24; 8:45 am]

BILLING CODE 4910-13-P